DEPARTMENT OF ENERGY

Federal Energy Regulatory Commission

[Docket No. RP03-550-000]

Dominion Transmission, Inc.; Notice of Tariff Filing

July 24, 2003.

Take notice that on July 18, 2003, Dominion Transmission, Inc. (DTI) tendered for filing as part of its FERC Gas Tariff, Third Revised Volume No. 1, First Revised Sheet No. 1019, with an effective date of August 17, 2003.

DTI states that the purpose of its filing is to revise one element of the gas quality specifications applicable to all receipts of natural gas by DTI by increasing the maximum acceptable level of nitrogen from three percent to four percent.

DTI explains that the change in quality specifications is motivated by the impending reactivation of the LNG import terminal of Dominion Cove Point LNG, L.P., which is interconnected with DTI.

DTI states that the proposed change will facilitate the movement of gas across pipelines in response to market need, promote access to a new supply of natural gas, and eliminate an inconsistency between DTI's quality specifications and those of other pipelines in the region.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 30, 2003.

Magalie R. Salas,
Secretary.

[FR Doc. 03-19396 Filed 7-30-03; 8:45 am]

BILLING CODE 6717-01-P